DEPARTMENT OF COMMERCE

National Oceanic and Atmospheric Administration

[I.D. 051806D]

South Atlantic Fishery Management Council; Public Meetings

AGENCY: National Marine Fisheries Service (NMFS), National Oceanic and Atmospheric Administration (NOAA), Commerce.

ACTION: Notice of public meetings.

SUMMARY: The South Atlantic Fishery Management Council (Council) will hold a joint meeting of its Habitat and Ecosystem-based Management Committees, Snapper Grouper Committee, a joint meeting of its King and Spanish Mackerel Committee and Advisory Panel, King and Spanish Mackerel Committee, Scientific and Statistical Selection Committee (CLOSED SESSION), Joint Executive/Finance Committees, Southeast Data, Assessment and Review (SEDAR) Committee and a meeting of the full Council. In addition, the Council will hold a public input session.

DATES: The meetings will be held on June 12-16, 2006. See SUPPLEMENTARY INFORMATION for specific dates and times.

ADDRESSES: The meetings will be held at the Wyndham Grand Bay Hotel, 2669 South Bayshore Drive, Coconut Grove, FL 33133; telephone: (1-800) 996-3426 or (305) 858-9600, fax: (305) 859-2026.

Council address: South Atlantic Fishery Management Council, One Southpark Circle, Suite 306, Charleston, SC 29407- 4699.

FOR FURTHER INFORMATION CONTACT: Kim Iverson, Public Information Officer; telephone: (843) 571-4366 or toll free at (866) SAFMC-10; fax: (843) 769-4520; e-mail: kim.iverson@safmc.net.

SUPPLEMENTARY INFORMATION:

Meeting Dates

1. Joint Habitat and Ecosystem-Based Management Committees Meeting: June 12, 2006, 1:30 p.m. - 5:30 p.m. and June 13, 2006, from 8:30 a.m. - 12 noon.

The Habitat and Ecosystem-Based Management Committees will receive results and recommendations from a joint meeting of the Habitat and Coral Advisory Panels, receive a report regarding the status of the Fishery Ecosystem Plan (FEP) development, and an overview of items for consideration in the FEP Comprehensive Amendment. The Committees will develop recommendations for the FEP and the FEP Comprehensive Amendment.

2. Snapper Grouper Committee Meeting: June 13, 2006, 1:30 p.m. - 4:30 p.m. and June 14, 2006, 8:30 a.m. - 12 noon

The Snapper Grouper Committee will receive an overview of Amendment 14 to the Snapper Grouper Fishery Management Plan (FMP) and recommendations from the Scientific and Statistical Committee (SSC). Amendment 14 addresses the use of marine protected areas for deepwater snapper grouper species. The Committee will discuss highly migratory species considerations associated with the amendment and then develop recommendations to the Council for Amendment 14.

The Committee will also receive an overview and SSC recommendations for Amendment 15 to the Snapper Grouper FMP. Amendment 15 addresses rebuilding schedules for snowy grouper, golden tilefish, black sea bass, and red porgy; recreational sale; permit issues (incorporation and 60-day renewal), size limits for queen triggerfish, and fishing year changes for golden tilefish. After discussing the biological opinion for the snapper grouper fishery, the Committee will make recommendations to the Council regarding Amendment 15.

The Committee will receive additional presentations from the SSC regarding cooperative research and data collection, a red porgy SEDAR update, data collection recommendations for species like snowy grouper; and presentations from NMFS on landings, the status of Amendment 13C addressing overfishing, and quota monitoring. The Committee will develop recommendations for the Council following the SSC and NMFS presentations.

June 13, 2006, 4:30 p.m. - The Council will hold a Public Input Session. Members of the public are invited to address the Council on items listed on the agenda or any other fishery issue that falls under the jurisdiction of the Council.

3. Joint Mackerel Committee and Advisory Panel (AP) Meeting: June 14, 2006, 1:30 p.m. - 5:30 p.m.

The Mackerel Committee and AP will receive a report from the SSC on king mackerel stock identification and an overview from Council staff of framework actions that will meet management requirements. The AP will provide input and recommendations to the Committee.

4. Mackerel Committee Meeting: June 15, 2006, 8:30 a.m. until 10:30 a.m.

The Mackerel Committee will meet to develop recommendations on items for framework action or to include in the FEP Comprehensive Amendment.

5. Joint Executive Finance Committee Meeting: June 15, 2006, 10:30 a.m. until 12 noon

The Committees will receive an update on Calendar Year 2006 budget, activities schedule, FMP timelines, and the status of the President's Fiscal Year 2007 budget. The Committees will then review and approve the Regional Operations Agreement for the Council/ NMFS Southeast Regional Office teams responsible for drafting management documents.

6. SEDAR Committee Meeting: June 15, 2006, 1:30 p.m. - 2:30 p.m.

The SEDAR Committee will receive an SSC briefing on the Research and Monitoring Report and receive a report on SEDAR Steering Committee meeting. The Committee will provide input on future species to be assessed through the SEDAR process and provide recommendations for the Council.

7. SSC Selection Committee Meeting: June 15, 2006, 2:30 p.m. - 3:30 p.m. (Closed Session)

The SSC Selection Committee will meet to review applications and develop recommendations for the Council on the appointment of members to the SSC.

8. Council Session: June 15, 2006, 4 p.m. - 6 p.m. and June 16, 2006, 8:30 a.m. - 12 noon

From 4 p.m. - 4:15 p.m., the Council will call the meeting to order, adopt the agenda, and approve the February/March 2006 meeting minutes.

From 4:15 p.m. - 4:30 p.m., the Council will receive a report on the SSC meetings.

From 4:30 p.m. - 5 p.m., the Council will receive a joint Habitat and Ecosystem-based Management Committees report and take action as appropriate.

From 5 p.m. - 5:30 p.m., the Council will hear a report from the Snapper Grouper Committee and take action as appropriate.

From 5:30 p.m. - 5:45 p.m., the Council will take final action on the Georgia Aquarium's Experimental Fishing Permit.

From 5:45 p.m. - 6 p.m., the Council will hear a report from the SSC Selection Committee and take action as appropriate.

Council Session: June 16, 2006, 8:30 a.m. - 12 noon.

From 8:30 a.m. - 9 a.m., the Council will receive a report from the Mackerel Committee and take action as appropriate.

From 9 a.m. - 9:15 a.m., the Council will receive a report from the Joint Executive/Finance Committees and take action as appropriate.

From 9:15 a.m. - 9:30 a.m., the Council will receive a report from the SEDAR Committee and take action as appropriate.

From 9:30 a.m. - 9:45 a.m., the Council will receive an update on spiny lobster management.

From 9:45 a.m. - 12 noon, the Council will receive a report on the Council Chairmen's/NMFS meetings and receive status reports from NOAA Fisheries' Southeast Regional Office, NOAA Fisheries' Southeast Fisheries Science Center, agency and liaison reports, and discuss other business including upcoming meetings.

Documents regarding these issues are available from the Council office (see ADDRESSES).

Although non-emergency issues not contained in this agenda may come before this Council for discussion, those issues may not be the subjects of formal Council action during this meeting. Council action will be restricted to those issues specifically listed in this notice and any issues arising after publication of this notice that require emergency action under section 305 (c) of the Magnuson-Stevens Act, provided the public has been notified of the Council's intent to take final action to address the emergency.

Except for advertised (scheduled) public hearings and public comment, the times and sequence specified on this agenda are subject to change.

Special Accommodations

These meetings are physically accessible to people with disabilities. Requests for sign language interpretation or other auxiliary aids should be directed to the Council office (see ADDRESSES) by June 8, 2006.

Dated: May 18, 2006.
Tracey L. Thompson,
Acting Director, Office of Sustainable Fisheries, National Marine Fisheries Service.

[FR Doc. E6-7876 Filed 5-23-06; 8:45 am]

BILLING CODE 3510-22-S